DEPARTMENT OF HEALTH AND HUMAN SERVICES

Indian Health Service

List of Recipients of Indian Health Scholarships Under the Indian Health Scholarship Program

The regulations governing Indian Health Care Improvement Act Programs (Pub. L. 94-437) provide at 42 CFR 136.334 that the Indian Health Service shall publish annually in the Federal Register a list of recipients of Indian Health Scholarships, including the name of each recipient, school and Tribal affiliation, if applicable. These scholarships were awarded under the authority of Sections 103 and 104 of the Indian Health Care Improvement Act, 25 U.S.C. 1613-1613a, as amended by the Indian Health Care Amendments of 1988, Public Law 100-713.

The following is a list of Indian Health Scholarship Recipients funded under Sections 103 and 104 for Fiscal Year 2010:

Adakai, Margaret Kabotie, Northern Arizona University, Hopi Tribe of Arizona

Akers, Tia Rose, Bryan Leigh College of Health Sciences, Oglala Sioux Tribe of the Pine Ridge Reservation, South Dakota

Alexander, Laura Lee, Pennsylvania College of Optometry, Native Village of Selawik

Alkire, Savannah Jade, University of Mary, Standing Rock Sioux Tribe of North & South Dakota

Allshouse, Marlene Dohi, Grand Canyon University, Navajo Nation, Arizona, New Mexico & Utah

Alvarez, Michon Marie, University of Alaska, Cheesh-Na Tribe (Formerly the Native Village of Chistochina)

Amdur-Clark, Micah Evan, Northeastern University, Citizen Potawatomi Nation, Oklahoma

Anagale, Paul Todd, University of Minnesota, Navajo Nation, Arizona, New Mexico & Utah

Avery, Shaela Ann, University of Utah, Navajo Nation, Arizona, New Mexico & Utah

Azure, Brittany Marie, University of Mary, Turtle Mountain Band of Chippewa Indians of North Dakota

Azure, Jeri Ann, University of North Dakota, Turtle Mountain Band of Chippewa Indians of North Dakota

Azure, Joan Marie, Dakota State College, Turtle Mountain Band of Chippewa Indians of North Dakota

Azure, Krysten Ross, University of North Dakota, Turtle Mountain Band of Chippewa Indians of North Dakota

Babbitt, Jonathan, University of Oklahoma Health Sciences Center, Navajo Nation, Arizona, New Mexico & Utah

Bacon, Kyle, Idaho State University, Shoshone Tribe of the Wind River Reservation, Wyoming

Baker, Michele Rene', University of Oklahoma Health Sciences Center, Choctaw Nation of Oklahoma

Barrett, Haley Nicole, University of Oklahoma Health Sciences Center, Cherokee Nation, Oklahoma

Battese, Anthony Steven, Northeastern State University, Prairie Band of Potawatomi Nation, Kansas

Beals, Charles Gregory, Oklahoma State University, Muscogee (Creek) Nation, Oklahoma

Beaver, Aaron Don, University of Oklahoma Health Sciences Center, Choctaw Nation of Oklahoma

Beaver, Allen Don, University of Oklahoma Health Sciences Center, Choctaw Nation of Oklahoma

Beck, Dustin Ryan, Oklahoma State University, Cherokee Nation, Oklahoma

Begay, Lisa, Arizona School of Dentistry, Navajo Nation, Arizona, New Mexico & Utah

Begay, Natalie, University of Washington, Pueblo of Santa Clara, New Mexico

Benally, Taleisa Morgan, University of New Mexico, Navajo Nation, Arizona, New Mexico & Utah

Bercier, Shellee, University of North Dakota, Turtle Mountain Band of Chippewa Indians of North Dakota

Berger, Jessica Paulette, Montana State University, Chippewa Cree Indians of the Rocky Boy's Reservation, Montana

Bernard, Kenneth Richard Lee, Harvard Medical School, Turtle Mountain Band of Chippewa Indians of North Dakota

Bighorse, Amanda Nicole, Oklahoma State University, Cherokee Nation, Oklahoma

Bissonette, Melvina Deneal, University of Minnesota, Oglala Sioux Tribe of the Pine Ridge Reservation, South Dakota

Blackburn, Jimmy, University of Oklahoma Health Sciences Center, Choctaw Nation of Oklahoma

Blackburn, Nathon Allan, University of Alaska, Eskimo

Blackweasel, Mindona, Frontier School of Midwifery, Huslia Village

Blair, Earl Anthony, University of Wisconsin, White Earth Band, Minnesota Chippewa Tribe, Minnesota

Bost, Dekoda Kole, Oklahoma State University, Choctaw Nation of Oklahoma

Boswell, Dolly, University of Minnesota, White Earth Band, Minnesota Chippewa Tribe, Minnesota

Boyd, Cassandra Iva, University of New Mexico, Navajo Nation, Arizona, New Mexico & Utah

Brehmer, Jill Marie, University of Phoenix, Cheyenne River Sioux Tribe of the Cheyenne River Reservation, South Dakota

Brewer, Cristie Shon, Clackamas Community College, Cherokee Nation, Oklahoma

Brisbois, Leaha, Washington State University, Turtle Mountain Band of Chippewa Indians of North Dakota

Brown, Brady James, University of Washington, Cherokee Nation, Oklahoma

Brown, Shannon Ray, University of Denver, Cheyenne River Sioux Tribe of the Cheyenne River Reservation, South Dakota

Brown, Yvette Michelle, Arizona State University, Navajo Nation, Arizona, New Mexico & Utah

Brumley (Walker). Breanna Jo, University of Oklahoma Health Sciences Center, Cherokee Nation, Oklahoma

Brunk, Abby Gail, Northeastern State University, Cherokee Nation, Oklahoma

Burden-Greer, Katie Nicole, University of Oklahoma Health Sciences Center, Muscogee (Creek) Nation, Oklahoma

Calderon, Sophina Manheimer, University of Rochester, Navajo Nation, Arizona, New Mexico & Utah

Cartmill-Tebow, Molly Gean, Northeastern State University, Cherokee Nation, Oklahoma

Castillo, Asley Marie, University of Washington, Tohono O'Odham Nation of Arizona

Cavanaugh, Sarah, University of Mary, Spirit Lake Tribe, North Dakota

Clark, Chelsea Emma, Northern Arizona University, Navajo Nation, Arizona, New Mexico & Utah

Clary, Zachary K., Oklahoma State University, Cherokee Nation, Oklahoma

Clay, Summer Lynn, Oklahoma Wesleyan University, Cherokee Nation, Oklahoma

Cleavenger, Aaron James, Everest College, Chippewa Cree Indians of the Rocky Boy's Reservation, Montana

Cleavenger, Beth Ann, University of Montana, Chippewa Cree Indians of the Rocky Boy's Reservation, Montana

Collins, Sara Jane, University of Oklahoma, Cherokee Nation, Oklahoma

Cook, David D., Rocky Vista University, Cherokee Nation, Oklahoma

Cook, Emily, University of Oklahoma Health Sciences Center, Cherokee Nation, Oklahoma

Cook, Raymond Natonabah, University of New Mexico, Navajo Nation, Arizona, New Mexico & Utah

Crawford, Brittany Dawn, University of North Dakota, Leech Lake Band, Minnesota Chippewa Tribe, Minnesota

Cummings, Samantha Joellen, Michigan State University, Oglala Sioux Tribe of the Pine Ridge Reservation, South Dakota

Cuny, Ryan Wilson, University of Minnesota, Sisseton-Wahpeton Sioux Tribe of the Lake Traverse Reservation, South Dakota

Curley, Dustin M., East Central University, Navajo Nation, Arizona, New Mexico & Utah

Curley-Moses, Tiffany Dawn, Northern Arizona University, San Carlos Apache Tribe of the San Carlos Reservation, Arizona

Dameron (Wallace), Roseann Marie, University of Oklahoma Health Sciences Center, Muscogee (Creek) Nation, Oklahoma

Dauphinais, Sara B., Augsburg College, Turtle Mountain Band of Chippewa Indians of North Dakota

Davis, Abby Sue, University of North Dakota, Turtle Mountain Band of Chippewa Indians of North Dakota

Davis, Deidrea Rose, Northern Arizona University, Navajo Nation, Arizona, New Mexico & Utah

Davis, Kayla Joyce, Boise State University, Bois Forte Band (Nett Lake), Minnesota Chippewa Tribe, Minnesota

De Vera, Melissa Myers, University of Nevada, Chippewa Cree Indians of the Rocky Boy's Reservation, Montana

Debo, Erica Kristin, Southwestern Oklahoma State University, Choctaw Nation of Oklahoma

Debolt, Nicholas D., University of Oklahoma Health Sciences Center, Muscogee (Creek) Nation, Oklahoma

Decker-Walks Over Ice, Amber Victoria, University of Montana, Confederated Salish & Kootenai of the Flathead Reservation, Montana

Dez, Desiderio, Northern Arizona University, Navajo Nation, Arizona, New Mexico & Utah

Dickson, Jamie Ruth, Salish Kootenai College, Navajo Nation, Arizona, New Mexico & Utah

Draper, Melanie B., Excela Health School of Anesthesia, Cherokee Nation, Oklahoma

Duncan, Caleb Jerome, Southwestern Oklahoma State University, Cherokee Nation, Oklahoma

Duncan, Colette Renee, Simmons College, Choctaw Nation of Oklahoma

Enfield, Donna Estella, College of St. Catherine, Choctaw Nation of Oklahoma

English, Brittany Renee, University of Oklahoma Health Sciences Center, Cherokee Nation, Oklahoma

Enix, Jessica Lea, University of Oklahoma Health Sciences Center, Choctaw Nation of Oklahoma

Evans, Amanda Lorna, University of Montana, Confederated Salish & Kootenai of the Flathead Reservation, Montana

Evans, Crystalle M., Oklahoma State University, Cherokee Nation, Oklahoma

Fairbanks, Barbara Ann, College of Allied Health Sciences, White Earth Band, Minnesota Chippewa Tribe, Minnesota

Faram, Ronald Chad, University of Oklahoma Health Sciences Center, Choctaw Nation of Oklahoma

Fleming, Travis, Southwestern Oklahoma State University, Cherokee Nation, Oklahoma

Flute, Trisha Marie, Northeast Community College, Lower Brule Sioux Tribe of the Lower Brule Reservation, South Dakota

Foster, James Ray, University of Oklahoma Health Sciences Center, Cherokee Nation, Oklahoma

Fouty, Strohm Josefin, Southern Oregon University, Confederated Salish & Kootenai of the Flathead Reservation, Montana

Freeling, Katherine Jane, University of Oklahoma Health Sciences Center, Cherokee Nation, Oklahoma

Frizzell, Felicia, University of the Pacific, Mescalero Apache Tribe of the Mescalero Reservation, New Mexico

Gallagher, Shawna Fay, Wright Institute, Klamath Indian Tribe of Oregon

Garcia, Karen Gina, Kirksville College, Montgomery Creek, Pit River Tribe, California

Garland (Greenwood), Karen L., Southwestern Oklahoma State University, Cherokee Nation, Oklahoma

Garrison, Bijiibaa Kristin, Harvard Medical School, Navajo Nation, Arizona, New Mexico & Utah

Gates, Khrys W., University of Missouri, Cherokee Nation, Oklahoma

Gee, Jodi Leigh, University of New Mexico, Navajo Nation, Arizona, New Mexico & Utah

Giordano, Kristin, University of New Mexico, Navajo Nation, Arizona, New Mexico & Utah

Gipp, Chenoa R., University of North Dakota, Standing Rock Sioux Tribe of North & South Dakota

Gladden, Emily, Midwestern University, Navajo Nation, Arizona, New Mexico & Utah

Gower, Kari L., Northeastern State University, Cherokee Nation, Oklahoma

Gower, Shanon R., Southwestern Oklahoma State University, Cherokee Nation, Oklahoma

Graves, Katy Dean, University of Oklahoma Health Sciences Center, Choctaw Nation of Oklahoma

Gritts, Charity Catrina, Connors State College, Cherokee Nation, Oklahoma

Hatinger, Jodie Lee, Central Michigan University, Sault Ste. Marie Tribe of Chippewa Indians of Michigan

Hatley, Jonathan M., Northeastern State University, Muscogee (Creek) Nation, Oklahoma

Hatton, Bobby Shane, East Central University, Chickasaw Nation of Oklahoma

Hayes, Teresa A, Southwestern Oklahoma State University, Cherokee Nation, Oklahoma

Henry, David Edmond, Creighton University Dental School, Cherokee Nation, Oklahoma

Hernandez, Carmen Marie, Midwestern State University, Kiowa Indian Tribe of Oklahoma

Herron (Sherman), Lisa Renee, University of Minnesota, Leech Lake Band, Minnesota Chippewa Tribe, Minnesota

Heth (Taylor), Talara K., Connors State College, Cherokee Nation, Oklahoma

Hicks, Jaclyn Deann, Northeastern State University, Choctaw Nation of Oklahoma

Hill, Kyle Xavier, University of North Dakota, Turtle Mountain Band of Chippewa Indians of North Dakota

Hinkle, Brian, Southwestern Oklahoma State University, Cherokee Nation, Oklahoma

Howard, Audrey L., Connors State College, United Keetoowah Band of Cherokee Indians in Oklahoma

Huff, Zachary Wade, University of Oklahoma Health Sciences Center, Choctaw Nation of Oklahoma

Hunnicutt, Rita Ann, Oklahoma Baptist University, Citizen Potawatomi Nation, Oklahoma

Hunter, Rachael Renina, Argosy University at Phoenix, Navajo Nation, Arizona, New Mexico & Utah

Huyser, Michelle Ruth, University of Minnesota, Navajo Nation, Arizona, New Mexico & Utah

Ivanoff, Gussie Paniuq, University of Minnesota, Native Village of Unalakleet

Iyott, John Phillip, Alliant International University, Rosebud Sioux Tribe of the Rosebud Indian Reservation, South Dakota

Jackson, Todd Alan, University of Oklahoma Health Sciences Center, Choctaw Nation of Oklahoma

James, Paree Denise, University of Alaska, Central Council of Tlingit & Haida Indian Tribes

Jaramillo, Ernest Benjamin, Central New Mexico Community College, Pueblo of Acoma, New Mexico

Jensen, Camilla Rae, A.T. Still University, Little Traverse Bay Bands of Odawa Indians, Michigan

Jensen, Emily, University of Notre Dame, Ninilchik Village

Jensen, Kelsey Nicole, Arizona State University, Oglala Sioux Tribe of the Pine Ridge Reservation, South Dakota

Jim, Leroy, The Fielding Institute, Navajo Nation, Arizona, New Mexico & Utah

Johnson, Blakely Elizabeth, University of Oklahoma, Cherokee Nation, Oklahoma

Johnston, Kristen Denae, University of Oklahoma Health Sciences Center, Muscogee (Creek) Nation, Oklahoma

Jojola, Nicole, Northland Pioneer College, Hopi Tribe of Arizona

Jones, Carmen R., University of South Dakota, Choctaw Nation of Oklahoma

Kaiser, Morgan Lynn, North Dakota State University, White Earth Band, Minnesota Chippewa Tribe, Minnesota

Kangas, Louise Deray, University of Alaska, Native Village of Ruby

Kaye, Justin B., University of New Mexico, Navajo Nation, Arizona, New Mexico & Utah

Keefee, Summer Leigh, Phoenix College, San Carlos Apache Tribe of the San Carlos Reservation, Arizona

Kettle, Keith C., D'Youville College, Seneca Nation of New York

Key, Cody Ryan, University of Oklahoma Health Sciences Center, Choctaw Nation of Oklahoma

Kirk, Brant Evan, Oregon Health Sciences University, Klamath Indian Tribe of Oregon

Knight, Krysten Amber, Oklahoma Wesleyan University, Cherokee Nation, Oklahoma

Knight-Brown, Miranda Dawn, University of Minnesota, Cherokee Nation, Oklahoma

Kurley, Stanley, A.T. Still University, White Mountain Apache of the Fort Apache Reservation, Arizona

Lafernier, Susan Marie, Gogebic Community College, Sault Ste. Marie Tribe of Chippewa Indians of Michigan

Lamb, Bianca Irene, Texas A&M University, Lipan Apache Tribe of Texas (State-Recognized)

Landgren, Shanna Rachelle, University of North Dakota, Bois Forte Band, Minnesota Chippewa Tribe, Minnesota

Lane, Dakotah C., Cornell University Medical College, Lummi Tribe of the Lummi Reservation, Washington

Laurence, Kami Lynn, University of Colorado, Navajo Nation, Arizona, New Mexico & Utah

Lawrence, Lindee M., Black Hills State University, Cheyenne River Sioux Tribe of the Cheyenne River Reservation, South Dakota

Lee, Christa Nicole, Arizona State University, Navajo Nation, Arizona, New Mexico & Utah

LeMaster, Robbi Lynn, University of Iowa, Santee Sioux Tribe of the Santee Reservation of Nebraska

Lenoir, Nicole Lynn, University of Minnesota, Turtle Mountain Band of Chippewa Indians of North Dakota

Lerche, Kathryn Addie, Michigan Technological University, Sault Ste. Marie Tribe of Chippewa Indians of Michigan

Lile, Luke Alexander, Southwestern Oklahoma State University, Cherokee Nation, Oklahoma

Little, Dustin Leroy, Oklahoma State University, Seminole Nation of Oklahoma

Livingston, Carole Ann, Argosy University, Bad River Band of the Lake Superior Tribe of Chippewa Indians of the Bad River Reservation, Wisconsin

Longhurst, William D., University of North Dakota, Navajo Nation, Arizona, New Mexico & Utah

Love, Socia Nicole, University of Minnesota, Cherokee Nation, Oklahoma

Lunday, Laramie Vernon, University of North Dakota, Turtle Mountain Band of Chippewa Indians of North Dakota

Lynch, Samantha, University of Oregon, Confederated Tribes of the Siletz Reservation, Oregon

Maddox, Gregory John, Cornell University Medical College, Choctaw Nation of Oklahoma

Maleport, Marcy Marlene, Lake Superior State College, Sault Ste. Marie Tribe of Chippewa Indians of Michigan

Marquis, Stacie, Lourdes College, Citizen Potawatomi Nation, Oklahoma

Marvel, Lindsey, Indiana University Bloomington, Caddo Indian Tribe of Oklahoma

Mason, Caley, University of Montana, Three Affiliated Tribes of the Fort Berthold Reservation, North Dakota

Massie, Alissa Louise, Arcadia University, Sault Ste. Marie Tribe of Chippewa Indians of Michigan

Matlock, Jazmin, Oklahoma State University, Cherokee Nation, Oklahoma

Matthews, William Burt Lewis, University of Oklahoma Health Sciences Center, Cherokee Nation, Oklahoma

Mayahi, Naseam, University of Nevada, Seminole Nation of Oklahoma

Mayo, Joshua Allen, University of Oklahoma Health Sciences Center, Choctaw Nation of Oklahoma

McCorkle, Cody W., University of Minnesota, Citizen Potawatomi Nation, Oklahoma

McCoy, Jalissa Alexandria, University of Tulsa, Muscogee (Creek) Nation, Oklahoma

McDonald, Kathryn Elizabeth, Northern Arizona University, Navajo Nation, Arizona, New Mexico & Utah

McEvoy, Kathryn Ann, University of North Dakota, Cherokee Nation, Oklahoma

Meeks, Kayla, University of Oklahoma Health Sciences Center, Chickasaw Nation, Oklahoma

Mesteth, Connally (Connie) Marie, University of Colorado Health Sciences Center, Oglala Sioux Tribe of the Pine Ridge Reservation, South Dakota

Middleton, Kelly Diane, University of Alabama, Choctaw Nation of Oklahoma

Miles, Rachelle Ranee, University of South Dakota, Navajo Nation, Arizona, New Mexico & Utah

Mode-Hall, Jessica Lois, Harding University, Choctaw Nation of Oklahoma

Morin, Christina Mae, Minot State University, Turtle Mountain Band of Chippewa Indians of North Dakota

Mowrey, Sara Ann, University of Oklahoma Health Sciences Center, Muscogee (Creek) Nation, Oklahoma

Mulanax, Jamie Lynn, Kansas City University of Medicine & Biosciences, Citizen Potawatomi Nation, Oklahoma

Nelson, Joseph Jake, Central Washington University, Confederated Tribes and Bands of the Yakama Nation, Washington

Nelson, Tiara Novelle, Minnesota State University, Red Lake Band of Chippewa Indians, Minnesota

Newbrough, Deidra Dawn, Colorado State University Cheyenne River Sioux Tribe of the Cheyenne River Reservation, South Dakota

Nez, Terilyn Melinda, Northcentral Technical College, Navajo Nation, Arizona, New Mexico & Utah

Norris, Valeria, University of North Dakota, Red Lake Band of Chippewa Indians, Minnesota

Not Afraid, Rosebud Faith, Sheridan College, Crow Tribe of Montana

O'Brien, Nancy Sue, Arizona State University, Cherokee Nation, Oklahoma

Old Elk, Chelsey Dionne, University of Montana, Crow Tribe of Montana

Oldacre, Matt Lance, University of Oklahoma Health Sciences Center, Cherokee Nation, Oklahoma

Ostgard, Estelle Anne, University of South Dakota, Turtle Mountain Band of Chippewa Indians of North Dakota

Padon, Bradelle, University of Washington, Central Council of the Tlingit & Haida Indian Tribes

Paul, Patsy A., Gateway Community College, Navajo Nation, Arizona, New Mexico & Utah

Peltier, Luke Joseph, North Dakota State University, Turtle Mountain Band of Chippewa Indians of North Dakota

Peshlakai, Karshira Fallon, University of New Mexico, Navajo Nation, Arizona, New Mexico & Utah

Peterson-Horn, Tara Jo, Montana State University, Blackfeet Tribe of the Blackfeet Indian Reservation of Montana

Platero, Miriam, Northern Arizona University, Navajo Nation, Arizona, New Mexico & Utah

Poitra, Berry James, North Dakota State University, Turtle Mountain Band of Chippewa Indians of North Dakota

Poole, Annemarie Katherine, Bemidji State University, Cheyenne-Arapaho Tribes of Oklahoma

Poorbuffalo, Shanna, East Central University, Choctaw Nation of Oklahoma

Porter, Billy Garrison, East Central University, Seminole Nation of Oklahoma

Porter, Rachael Kristin, University of Oklahoma Health Sciences Center, Cherokee Nation, Oklahoma

Punneo, Amanda Paige, East Central University, Chickasaw Nation, Oklahoma

Quam, Zellisha Alexis, Arizona School of Dentistry, Zuni Tribe of the Zuni Reservation, New Mexico

Rangel, Tammy Ann, Paris Junior College, Choctaw Nation of Oklahoma

Redwine, Frederick Martin, University of North Dakota, Choctaw Nation of Oklahoma

Redwing, Courtney Allison, North Dakota State University, Sisseton-Wahpeton Sioux Tribe of the Lake traverse Reservation, South Dakota

Reece, Matthew Glenn, Northeastern State University, Cherokee Nation, Oklahoma

Reinke, Sarah J., ITT Technical Institute, Muscogee (Creek) Nation, Oklahoma

Richardson, Fain Justin, Marquette University, Iowa Tribe of Kansas & Nebraska

Richardson, Patricia Chrystine, University of North Dakota, Cherokee Nation, Oklahoma

Robinson, Riesa Lynne, University of Massachusetts, Hopi Tribe of Arizona

Roecker, Whitney Ellen, University of Arkansas, Cherokee Nation, Oklahoma

Rogers, Kyle, University of Oklahoma, Choctaw Nation of Oklahoma

Roselius, Kassi, University of North Dakota, Citizen Potawatomi Nation, Oklahoma

Ross, Royleen J., University of New Mexico, Pueblo of Laguna, New Mexico

Rumsey, Matthew C., University of North Dakota, Osage Tribe, Oklahoma

Running Hawk, Lacey Marie, University of Minnesota, Standing Rock Sioux Tribe of North & South Dakota

Saltclah, Shannon Marie, University of New Mexico, Navajo Nation, Arizona, New Mexico & Utah

Sampson, Annette New Dawn, Blue Mountain Community College, Confederated Tribes of the Umatilla Reservation, Oregon

Sandoval, Adrian Kyle, Creighton University, Navajo Nation, Arizona, New Mexico & Utah

Scantlen, Marty R., University of Oklahoma Health Sciences Center, Kiowa Indian Tribe of Oklahoma

Scheurer, Mallory, University of Arkansas, Cherokee Nation, Oklahoma

Schlotthauer, Rachael Joy, Loma Linda University, Cheyenne River Sioux Tribe of the Cheyenne River Reservation, South Dakota

Schossow, Melissa Sue, Northern Arizona University, Navajo Nation, Arizona, New Mexico & Utah

Schultheiss, Lindsey B., Hardin-Simmons University, Cherokee Nation, Oklahoma

Schulze, Rachel Larae, University of Montana, Pawnee Nation of Oklahoma

Selzler, Makayla Ann., South Dakota State University, Cheyenne River Sioux Tribe of the Cheyenne River Reservation, South Dakota

Seyler, Kevin Allen, George Fox University, Confederated Tribes of the Warm Springs Reservation of Oregon

Shadaram, Sara Roya, University of Oklahoma Health Sciences Center, Cheyenne-Arapaho Tribes of Oklahoma

Shaughnessy, Catherine Faith, Alliant International University, Muscogee (Creek) Nation, Oklahoma

Shirleson, Jamie Ruth Morgan, Arizona State University, Navajo Nation, Arizona, New Mexico & Utah

Shirley, Jeremy, Arizona State University, Navajo Nation, Arizona, New Mexico & Utah

Short, Kayleigh Ann, Arizona School of Dentistry, Petersburg Indian Association

Shoup, Deanna Michelle, University of Minnesota, Rosebud Sioux Tribe of the Rosebud Indian Reservation, South Dakota

Silversmith, Lenora Rose, University of New Mexico, Navajo Nation, Arizona, New Mexico & Utah

Skan, Jordan Dewey, University of Alaska, Ketchikan Indian Corporation

Slate, Megan, Northeastern State University, Cherokee Nation, Oklahoma

Slater, Matthew Ruhmann, Lake Erie College of Osteopathic Medicine, Cherokee Nation, Oklahoma

Smith, Rebecca J., University of North Dakota, Spirit Lake Tribe, North Dakota

Smith, Samantha Jenny, University of New Mexico, Navajo Nation, Arizona, New Mexico & Utah

Smith, Tanya R., Salish Kootenai College, Apache Tribe of Oklahoma

Sneed, Roberta V., Southwestern Community College, Eastern Band of Cherokee Indians of North Carolina

Sparks, Aaron D., University of Montana, Fort Belknap Indian Community of the Fort Belknap Reservation of Montana

Spaulding, Timothy Daniel, University of Pittsburgh Dental School, Caddo Indian Tribe of Oklahoma

St. Goddard, Marcia Lynn, University of Montana, Blackfeet Tribe of the Blackfeet Indian Reservation of Montana

St. Clair, Sunny Rae, Montana State University, Shoshone Tribe of the Wind River Reservation, Wyoming

Stamile, Zachary Peter, University of Oklahoma Health Sciences Center, Chickasaw Nation, Oklahoma

Stimson, Danielle Rain, University of Washington, Blackfeet Tribe of the Blackfeet Indian Reservation of Montana

Sun Rhodes, Lisa Sky, University of Washington, Arapahoe Tribe of the Wind River Reservation, Wyoming

Tabor, Aaron Austin, University of Oklahoma Health Sciences Center, Cherokee Nation, Oklahoma

Tarbell, Stephen Charles, University of Buffalo, St. Regis Band of Mohawk Indians of New York

Taylor, Tara Lynn, Lewis and Clark State College, Nez Perce Tribe of Idaho

Thuen, Bobbi Rae, University of North Dakota, Turtle Mountain Band of Chippewa Indians of North Dakota

Tincher, Amber Nicole, University of North Dakota, Assiniboine & Sioux Tribes of the Fort Peck Indian Reservation, Montana

Tom, Michelle, Nova Southeastern University, Navajo Nation, Arizona, New Mexico & Utah

Tomosie, Pearlyn G., University of North Dakota, Hopi Tribe of Arizona

Tsabetsaye, Jessica Lucillia, University of St. Francis, Zuni Tribe of the Zuni Reservation, New Mexico

Tso, Jacqueline, Northland Pioneer College, Navajo Nation, Arizona, New Mexico & Utah

Tsosie, Cynthia, Northern Arizona University, Navajo Nation, Arizona, New Mexico & Utah

Tuamoheloa, Melanie Lynn, Creighton University, Omaha Tribe of Nebraska

Turner, Stephen Matthew, University of Minnesota, White Earth Band, Minnesota Chippewa Tribe, Minnesota

Velez, Marti Sue, Forest Institute of Professional Psychology, Cherokee Nation, Oklahoma

Waatsa, Robert Keith, Western New Mexico University, Zuni Tribe of the Zuni Reservation, New Mexico

Wahpepah, Kristin Renee, Langston University, Kickapoo Tribe of Oklahoma

Waite, Jeremy, Idaho State University, Nunapitchuk Native Village

Walker, John David, Creighton University, Zuni Tribe of the Zuni Reservation, New Mexico

Walker, Krystina, University of Oklahoma Health Sciences Center, Cherokee Nation, Oklahoma

Walker, Marshall, Pennsylvania College of Optometry, Cherokee Nation, Oklahoma

Walker, Tyson, University of California, White Mountain Apache of the Fort Apache Reservation, Arizona

Warwick, Rochelle L., University of Wisconsin, Lac Courte Oreilles Band of Lake Superior Chippewa Indians of Wisconsin

Waseta, Shawn Ray, Central New Mexico Community College, Zuni Tribe of the Zuni Reservation, New Mexico

Welch, Leeann Sue, Arizona School of Dentistry, Central Council of Tlingit & Haida Indian Tribes

Welsh, Dale William, University of Utah, Sault Ste. Marie Tribe of Chippewa Indians of Michigan

Westlake, Julianne Camille, Gonzaga University, Native Village of Kiana

White, Kristin Rae, University of New Mexico, Navajo Nation, Arizona, New Mexico & Utah

Whitehair, Lance, University of Minnesota, Navajo Nation, Arizona, New Mexico & Utah

Whitener, Henry Jake, Northeastern State University, United Keetoowah Band of Cherokee Indians in Oklahoma

Wilbourn, Crystal, University of Arkansas, Cherokee Nation, Oklahoma

Wilch-Tweten, Saundra Whitney Madeline, University of South Dakota, Sisseton-Wahpeton Sioux Tribe of the Lake Traverse Reservation, South Dakota

Willie, Crystal Amber, Creighton University, Navajo Nation, Arizona, New Mexico & Utah

Wilmon, Brey, Northeastern State University, Cherokee Nation, Oklahoma

Wilson, Hailey LaFrance, University of Washington, Nez Perce Tribe of Idaho

Wilson, Megan Breffney, Oklahoma State University, Muscogee (Creek) Nation, Oklahoma

Yasana, Lillian Jessica, University of Nevada, Klamath Indian Tribe of Oregon

Yazzie, Marla Jana, University of Arizona, Navajo Nation, Arizona, New Mexico & Utah

FOR FURTHER INFORMATION CONTACT: The Indian Health Service Scholarship Branch, 801 Thompson Avenue, Suite 120, Rockville, Maryland 20852, or Telephone: (301) 443-6197, Fax: (301) 443-6048.

Dated: February 14, 2011.
Yvette Roubideaux,
Director, Indian Health Service.

[FR Doc. 2011-4665 Filed 3-1-11; 8:45 am]

BILLING CODE 4165-16-P